ENVIRONMENTAL PROTECTION AGENCY

[EPA-HQ-OPP-2010-0014; FRL-9925-44]

Product Cancellation Order for Certain Pesticide Registrations

AGENCY: Environmental Protection Agency (EPA).

ACTION: Notice.

SUMMARY: This notice announces EPA's order for the cancellations, voluntarily requested by the registrants and accepted by the Agency, of the products listed in Table 1 of Unit III., pursuant to the Federal Insecticide, Fungicide, and Rodenticide Act (FIFRA). Any distribution, sale, or use of the products subject to this cancellation order is permitted only in accordance with the terms of this order, including any existing stocks provisions.

DATES: The cancellations are effective April 16, 2015.

FOR FURTHER INFORMATION CONTACT: Janeese Hackley, Pesticide Re-Evaluation Division (7508P), Office of Pesticide Programs, Environmental Protection Agency, 1200 Pennsylvania Ave. NW., Washington, DC 20460-0001; telephone number: (703) 605-1523; email address: hackley.janeese@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2010-0014, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request.

III. What action is the Agency taking?

This notice announces the cancellation, as requested by registrants, of products registered under FIFRA section 3 (7 U.S.C. 136a). These registrations are listed in sequence by registration number in Table 1 of this unit.

Table 1—Product Cancellations
EPA registration No. | Product name | Chemical name
060061-00139 | Kop-Coat Cooper Treat 80 | Copper carbonate, basic.
CA-050009 | Deadline Bullets | Metaldehyde.
CA-890001 | Durham Metaldehyde Granules 7.5 | Metaldehyde.
KY-100002 | Dual Magnum Herbicide | S-Metolachlor.
KY-110032 | Ridomil Gold SL | Metalaxyl-M.
MI-100003 | Scholar SC | Fludioxonil.
OR-030002 | Warrior Insecticide with Zeon Technology | Lambda-cyhalothrin.
OR-060010 | Mocap EC Nematicide-Insecticide | Ethoprop.
OR-060024 | Mocap EC Nematicide-Insecticide | Ethoprop.
OR-080027 | Axiom DF Herbicide | Metribuzin and Flufenacet.
OR-090003 | Mocap EC Nematicide-Insecticide | Ethoprop.
WA-000037 | Wakil XL | Fludioxonil, Metalaxyl-M and Cymoxanil.
WA-100007 | Graduate SC | Fludioxonil.

Table 2 of this unit includes the names and addresses of record for all registrants of the products in Table 1 of this unit, in sequence by EPA company number. This number corresponds to the first part of the EPA registration numbers of the products listed in Table 1 of this unit.

Table 2—Registrants of Cancelled Products
EPA company No. | Company name and address
60061 | Kop-Coat, Inc., 3020 William Pitt Way, Pittsburg, PA 15238.
CA-050009 and CA-890001 | Amvac Chemical Corporation, 4695 MacArthur Court, Suite 1200, Newport Beach, CA 92660-1706.
KY-100002, KY-110032, MI-100003, OR-030002, WA-000037, WA-100007 | Syngenta Crop Protection, LLC, 410 Swing Road, P.O. Box 18300, Greensboro, NC 27419-8300.
OR-060010, OR-060024, OR-080027, OR-090003 | Bayer CropScience LP, 2 T.W. Alexander Drive, P.O. Box 12014, Research Triangle Park, NC 27709.

This cancellation order follows a notice of receipt of voluntary cancellation requests received from the registrants that issued in the Federal Register of June 11, 2014 (79 FR 33550) (FRL-9911-36)), and a correction notice issued in the Federal Register of July 16, 2014 (79 FR 41551) (FRL-9913-20) that removed two products that were inadvertently listed in the June 11, 2014 document. In the June 2014 document, EPA indicated that it would issue an order implementing the cancellations, unless the Agency received substantive comments within the 180-day comment period that would merit its further review of these requests, or unless the registrants withdrew their requests.

IV. Summary of Public Comments Received and Agency Response to Comments

The comment period closed on December 8, 2014. EPA received one comment. The comment did not contain information about any specific product cancellation request. For this reason, the Agency does not believe that the comment submitted during the comment period merits further review or a denial of the request for voluntary cancellation.

Further, the registrants did not withdraw their requests.

V. Cancellation Order

Pursuant to FIFRA section 6(f) (7 U.S.C. 136d(f)), EPA hereby approves the requested cancellations of the registrations identified in Table 1 of Unit III. Accordingly, the Agency hereby orders that the product registrations identified in Table 1 of Unit III. are canceled. The effective date of the cancellations that are the subject of this order is April 16, 2015. Any distribution, sale, or use of existing stocks of the products identified in Table 1 of Unit III. in a manner inconsistent with any of the provisions for disposition of existing stocks set forth in Unit VI. will be a violation of FIFRA.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit III. until April 18, 2016, which is 1 year after the publication of the Cancellation Order in the Federal Register. Thereafter, the registrants are prohibited from selling or distributing products listed in Table 1 of Unit III. except for export in accordance with FIFRA section 17 (7 U.S.C. 136o), or proper disposal. Persons other than the registrants may sell, distribute, or use existing stocks of products listed in Table 1 of Unit III. until existing stocks are exhausted, provided that such sale, distribution, or use is consistent with the terms of the previously approved labeling on, or that accompanied, the canceled products.

Authority: 7 U.S.C. 136 et seq.

Dated: April 3, 2015.
Michael Goodis,
Acting Director, Pesticide Re-Evaluation Division, Office of Pesticide Programs.

[FR Doc. 2015-08787 Filed 4-15-15; 8:45 am]

BILLING CODE 6560-50-P